CORPORATION FOR NATIONAL AND COMMUNITY SERVICE

45 CFR Part 2551

RIN 3045-AA29

Senior Companion Program; Amendments; Correction

AGENCY: Corporation for National and Community Service.

ACTION: Proposed rule; correction.

SUMMARY: The Corporation for National and Community Service published a document in the Federal Register on April 17, 2002 (67 FR 18846), in which it requested public comment on its proposed amendment to the Senior Companion Program (SCP). The document contained incorrect information which this action corrects.

FOR FURTHER INFORMATION CONTACT: Mr. Peter Boynton, (202) 606-5000, Ext. 499.

Correction

1. In the Federal Register of April 17, 2002, in FR Doc. 02-9199, on page 18846, in the first column, the entire SUMMARY is corrected to read as follows:

SUMMARY: These amendments to the Final Regulation governing the Senior Companion Program include: improving access of persons with limited English speaking proficiency; clarifying what income should be counted for purposes of determining income eligibility of an applicant to become a stipended Senior Companion; providing increased flexibility to sponsors to determine the hours of service of Senior Companions; reducing restrictions on sponsors serving as volunteer stations; and providing for Senior Companions to serve as volunteer leaders.

2. In the Federal Register of April 17, 2002, in FR Doc. 02-9199, on page 18846, in the second column, under SUPPLEMENTARY INFORMATION, Background, paragraph (1), lines 6 and 7, correct the words “Foster Grandparents” to read “Senior Companions”.

Dated: April 19, 2002.
Tess Scannell,
Director, Senior Corps.

[FR Doc. 02-10138 Filed 4-24-02; 8:45 am]

BILLING CODE 6050-$$-P